Title 3—

The President

Executive Order 13327 of February 4, 2004

Federal Real Property Asset Management

By the authority vested in me as President by the Constitution and the laws of the United States of America, including section 121(a) of title 40, United States Code, and in order to promote the efficient and economical use of Federal real property resources in accordance with their value as national assets and in the best interests of the Nation, it is hereby ordered as follows:

Section 1. Policy. It is the policy of the United States to promote the efficient and economical use of America's real property assets and to assure management accountability for implementing Federal real property management reforms. Based on this policy, executive branch departments and agencies shall recognize the importance of real property resources through increased management attention, the establishment of clear goals and objectives, improved policies and levels of accountability, and other appropriate action.

Sec. 2. Definition and Scope. (a) For the purpose of this executive order, Federal real property is defined as any real property owned, leased, or otherwise managed by the Federal Government, both within and outside the United States, and improvements on Federal lands. For the purpose of this order, Federal real property shall exclude: interests in real property assets that have been disposed of for public benefit purposes pursuant to section 484 of title 40, United States Code, and are now held in private ownership; land easements or rights-of-way held by the Federal Government; public domain land (including lands withdrawn for military purposes) or land reserved or dedicated for national forest, national park, or national wildlife refuge purposes except for improvements on those lands; land held in trust or restricted fee status for individual Indians or Indian tribes; and land and interests in land that are withheld from the scope of this order by agency heads for reasons of national security, foreign policy, or public safety.

(b) This order shall not be interpreted to supersede any existing authority under law or by executive order for real property asset management, with the exception of the revocation of Executive Order 12512 of April 29, 1985, in section 8 of this order.

Sec. 3. Establishment and Responsibilities of Agency Senior Real Property Officer. (a) The heads of all executive branch departments and agencies cited in sections 901(b)(1) and (b)(2) of title 31, United States Code, and the Secretary of Homeland Security, shall designate among their senior management officials, a Senior Real Property Officer. Such officer shall have the education, training, and experience required to administer the necessary functions of the position for the particular agency.

(b) The Senior Real Property Officer shall develop and implement an agency asset management planning process that meets the form, content, and other requirements established by the Federal Real Property Council established in section 4 of this order. The initial agency asset management plan will be submitted to the Office of Management and Budget on a date determined by the Director of the Office of Management and Budget. In developing this plan, the Senior Real Property Officer shall:

(i)

identify and categorize all real property owned, leased, or otherwise managed by the agency, including, where applicable, those properties outside the United States in which the lease agreements and arrangements reflect the host country currency or involve alternative lease plans or rental agreements;

(ii)

prioritize actions to be taken to improve the operational and financial management of the agency's real property inventory;

(iii)

make life-cycle cost estimations associated with the prioritized actions;

(iv)

identify legislative authorities that are required to address these priorities;

(v)

identify and pursue goals, with appropriate deadlines, consistent with and supportive of the agency's asset management plan and measure progress against such goals;

(vi)

incorporate planning and management requirements for historic property under Executive Order 13287 of March 3, 2003, and for environmental management under Executive Order 13148 of April 21, 2000; and

(vii)

identify any other information and pursue any other actions necessary to the appropriate development and implementation of the agency asset management plan.

(c) The Senior Real Property Officer shall be responsible, on an ongoing basis, for monitoring the real property assets of the agency so that agency assets are managed in a manner that is:

(i)

consistent with, and supportive of, the goals and objectives set forth in the agency's overall strategic plan under section 306 of title 5, United States Code;

(ii)

consistent with the real property asset management principles developed by the Federal Real Property Council established in section 4 of this order; and

(iii)

reflected in the agency asset management plan.

(d) The Senior Real Property Officer shall, on an annual basis, provide to the Director of the Office of Management and Budget and the Administrator of General Services:

(i)

information that lists and describes real property assets under the jurisdiction, custody, or control of that agency, except for classified information; and

(ii)

any other relevant information the Director of the Office of Management and Budget or the Administrator of General Services may request for inclusion in the Government-wide listing of all Federal real property assets and leased property.

(e) The designation of the Senior Real Property Officer shall be made by agencies within 30 days after the date of this order.

Sec. 4. Establishment of a Federal Real Property Council. (a) A Federal Real Property Council (Council) is established, within the Office of Management and Budget for administrative purposes, to develop guidance for, and facilitate the success of, each agency's asset management plan. The Council shall be composed exclusively of all agency Senior Real Property Officers, the Controller of the Office of Management and Budget, the Administrator of General Services, and any other full-time or permanent part-time Federal officials or employees as deemed necessary by the Chairman of the Council. The Deputy Director for Management of the Office of Management and Budget shall also be a member and shall chair the Council. The Office of Management and Budget shall provide funding and administrative support for the Council, as appropriate.

(b) The Council shall provide a venue for assisting the Senior Real Property Officers in the development and implementation of the agency asset management plans. The Council shall work with the Administrator of General Services to establish appropriate performance measures to determine the effectiveness of Federal real property management. Such performance measures shall include, but are not limited to, evaluating the costs and benefits involved with acquiring, repairing, maintaining, operating, managing, and disposing of Federal real properties at particular agencies. Specifically, the Council shall consider, as appropriate, the following performance measures:

(i)

life-cycle cost estimations associated with the agency's prioritized actions;

(ii)

the costs relating to the acquisition of real property assets by purchase, condemnation, exchange, lease, or otherwise;

(iii)

the cost and time required to dispose of Federal real property assets and the financial recovery of the Federal investment resulting from the disposal;

(iv)

the operating, maintenance, and security costs at Federal properties, including but not limited to the costs of utility services at unoccupied properties;

(v)

the environmental costs associated with ownership of property, including the costs of environmental restoration and compliance activities;

(vi)

changes in the amounts of vacant Federal space;

(vii)

the realization of equity value in Federal real property assets;

(viii)

opportunities for cooperative arrangements with the commercial real estate community; and

(ix)

the enhancement of Federal agency productivity through an improved working environment. The performance measures shall be designed to enable the heads of executive branch agencies to track progress in the achievement of Government-wide property management objectives, as well as allow for comparing the performance of executive branch agencies against industry and other public sector agencies.

(c) The Council shall serve as a clearinghouse for executive agencies for best practices in evaluating actual progress in the implementation of real property enhancements. The Council shall also work in conjunction with the President's Management Council to assist the efforts of the Senior Real Property Officials and the implementation of agency asset management plans.

(d) The Council shall be organized and hold its first meeting within 60 days of the date of this order. The Council shall hold meetings not less often than once a quarter each fiscal year.

Sec. 5. Role of the General Services Administration. (a) The Administrator of General Services shall, to the extent permitted by law and in consultation with the Federal Real Property Council, provide policy oversight and guidance for executive agencies for Federal real property management; manage selected properties for an agency at the request of that agency and with the consent of the Administrator; delegate operational responsibilities to an agency where the Administrator determines it will promote efficiency and economy, and where the receiving agency has demonstrated the ability and willingness to assume such responsibilities; and provide necessary leadership in the development and maintenance of needed property management information systems.

(b) The Administrator of General Services shall publish common performance measures and standards adopted by the Council.

(c) The Administrator of General Services, in consultation with the Federal Real Property Council, shall establish and maintain a single, comprehensive, and descriptive database of all real property under the custody and control of all executive branch agencies, except when otherwise required for reasons of national security. The Administrator shall collect from each executive branch agency such descriptive information, except for classified information, as the Administrator considers will best describe the nature, use, and extent of the real property holdings of the Federal Government.

(d) The Administrator of General Services, in consultation with the Federal Real Property Council, may establish data and other information technology (IT) standards for use by Federal agencies in developing or upgrading Federal agency real property information systems in order to facilitate reporting on a uniform basis. Those agencies with particular IT standards and systems in place and in use shall be allowed to continue with such use to the extent that they are compatible with the standards issued by the Administrator.

Sec. 6. General Provisions. (a) The Director of the Office of Management and Budget shall review, through the management and budget review processes, the efforts of departments and agencies in implementing their asset management plans and achieving the Government-wide property management policies established pursuant to this order.

(b) The Office of Management and Budget and the General Services Administration shall, in consultation with the landholding agencies, develop legislative initiatives that seek to improve Federal real property management through the adoption of appropriate industry management techniques and the establishment of managerial accountability for implementing effective and efficient real property management practices.

(c) Nothing in this order shall be construed to impair or otherwise affect the authority of the Director of the Office of Management and Budget with respect to budget, administrative, or legislative proposals.

(d) Nothing in this order shall be construed to affect real property for the use of the President, Vice President, or, for protective purposes, the United States Secret Service.

Sec. 7. Public Lands. In order to ensure that Federally owned lands, other than the real property covered by this order, are managed in the most effective and economic manner, the Departments of Agriculture and the Interior shall take such steps as are appropriate to improve their management of public lands and National Forest System lands and shall develop appropriate legislative proposals necessary to facilitate that result.

Sec. 8. Executive Order 12512 of April 29, 1985, is hereby revoked.

Sec. 9. Judicial Review. This order is intended only to improve the internal management of the executive branch and is not intended to, and does not, create any right or benefit, substantive or procedural, enforceable at law or in equity, against the United States, its departments, agencies, or other entities, its officers or employees, or any other person.

B

THE WHITE HOUSE,

February 4, 2004.

[FR Doc. 04-2773

Filed 2-5-04; 9:19 am]

Billing code 3195-01-P